DEPARTMENT OF TRANSPORTATION

Federal Railroad Administration

[Docket No. FRA-2020-0027-N-6]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before June 15, 2020.

ADDRESSES: Submit written comments on the ICR activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-0010,” and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Track Safety Standards.

OMB Control Number: 2130-0010.

Abstract: The information collection associated with 49 CFR part 213 is used by FRA to ensure and enhance rail safety by monitoring complete compliance with all regulatory requirements. Part 213 prescribes minimum safety requirements for railroad track that is part of the general railroad system of transportation. While the requirements prescribed in this part generally apply to specific track conditions existing in isolation, a combination of track conditions, none of which individually amounts to a deviation from the requirements in this part, may require remedial action to provide safe operations over that track. Qualified persons inspect track and take action to allow safe passage of trains and ensure compliance with the prescribed standards. In 2013, FRA amended the Track Safety Standards and Passenger Equipment Safety Standards to promote the safe interaction of rail vehicles with the track over which they operate under a variety of conditions at speeds up to 220 m.p.h.

Type of Request: Extension with change (revised estimates) of a currently approved collection.

Affected Public: Businesses.

Form(s): N/A.

Respondent Universe: 746 railroads.

Frequency of Submission: On occasion.

Reporting Burden:

CFR section | Respondent universe (railroads) | Total annual responses | Average time per responses | Total annual burden hours | Total cost equivalent ¹
213.4(f)—Excepted track—Notification to FRA about removal of excepted track | 746 | 15 notices | 10 minutes | 2.5 | $190
213.5(c)—Responsibility for compliance—Notification of assignment to FRA | 746 | 15 notices | 1 hour | 15 | 1,140
213.7(a)-(b)—Designations: Names on list with written authorizations | 746 | 2,500 documents | 10 minutes | 416.7 | 31,669
213.17(a)—Waivers | 746 | 10 petitions | 2 hours | 20 | 1,520
213.57(e)—Curves, elevation and speed limitations—Request to FRA for vehicle type approval | 746 | 4 requests | 8 hours | 32 | 2,432
213.57(f)—Written Notification to FRA prior to implementation of higher curving speeds | 746 | 4 notifications | 2 hours | 8 | 608
213.57(g)—Written consent of track owners obtained by railroad providing service over that track | 746 | 4 written consents | 45 minutes | 3 | 228
213.110(a)—Gage restraint measurement systems (GRMS)—Implementing GRMS—notices & reports | 746 | 1 notification | 45 minutes | .8 | 61
213.110(g)—GRMS vehicle output reports | 746 | 1 report | 5 minutes | .1 | 8
213.110(h)—GRMS vehicle exception reports | 746 | 1 report | 5 minutes | .1 | 8
213.110(j)—GRMS/PTLF—procedures for data integrity | 746 | 1 documented procedure | 1 hour | 1 | 76
213.110(n)—GRMS inspection records | 746 | 2 records | 30 minutes | 1 | 76
213.118(a)-(c)—Continuous welded rail (CWR)—Revised plans w/procedures for CWR | 438 | 10 plans | 4 hours | 40 | 3,040
213.118(d)—Notification to FRA and RR employees of CWR plan effective date | 438 | 750 notifications to employees | 15 seconds | 3.1 | 236
213.118(e)—Written submissions after plan disapproval | 438 | 5 written submissions | 2 hours | 10 | 760
213.118(e)—Final FRA disapproval and plan amendment | 438 | 5 amended plans | 1 hour | 5 | 380
213.234(f)—Automated inspection of track constructed with concrete crossties—Recordkeeping requirements | 30 | 2,000 records | 30 minutes | 1,000 | 76,000
213.237(b)(2)—Inspection of Rail—Detailed request to FRA to change designation of a rail inspection segment or establish a new segment | 65 | 4 requests | 15 minutes | 1 | 76
213.237(b)(3)—Notification to FRA and all affected employees of designation's effective date after FRA's approval/conditional approval | 65 | 1 notice to FRA + 15 bulletins | 15 minutes | 4 | 304
213.237(d)—Notice to FRA that service failure rate target in paragraph (a) of this section is not achieved | 65 | 4 notices | 15 minutes | 1 | 76
213.237(d)—Explanation to FRA as to why performance target was not achieved and provision to FRA of remedial action plan | 65 | 4 letters of explanation/plans | 15 minutes | 1 | 76
213.241—Inspection records² | 746 | 1,375,000 records | 10 minutes | 229,166.7 | 17,416,669
213.303(b)—Responsibility for compliance—Notification of assignment to FRA | 2 | 5 notices | 30 minutes | 2.5 | 190
213.305(a)-(c)—Designation of qualified individuals; general qualifications—Written authorization for remedial actions | 2 | 20 written documents | 30 minutes | 10 | 760
213.305(e)—Designation of qualified individuals; general qualifications; recordkeeping requirements for designations | 2 | 200 records | 10 minutes | 33.3 | 2,531
213.317(a)-(b)—Waivers | 2 | 2 petitions | 8 hours | 16 | 1,216
213.329(e)—Curves, elevation and speed limitations—FRA approval of qualified vehicle types based on results of testing | 2 | 2 cover letters + 2 technical reports + 2 diagrams | 30 minutes + 16 hours + 15 minutes | 33.5 | 2,546
213.329(f)—Written notification to FRA 30 days prior to implementation of higher curving speeds | 2 | 2 notices | 2 hours | 4 | 304
213.329(g)—Written consent of other affected track owners by railroad | 2 | 2 written consents | 45 minutes | 1.5 | 114
213.333(d)—Automated vehicle-based inspection systems—Track Geometry Measurement System (TGMS) output/exception reports | 7 | 7 reports | 1 hour | 7 | 532
213.341(b)-(d)—Initial inspection of new rail & welds—Inspection records | 2 | 800 records | 2 minutes | 26.7 | 2,029
213.343(a)-(e)—Continuous welded rail (CWR)—Procedures for installations and adjustments of CWR | 2 | 2 plans | 4 hours | 8 | 608
213.343(h)—Recordkeeping requirements | 2 | 8,000 records | 2 minutes | 266.7 | 20,269
213.345(a)-(c)—Vehicle qualification testing—Vehicle qualification program for all vehicle types operating at track Class 6 speeds or above | 2 | 2 program plans | 120 hours | 240 | 18,240
213.345(d)—Previously qualified vehicle types qualification programs | 2 | 2 program plans | 8 hours | 16 | 1,216
213.345(h)—Written consent of other affected track owners by railroad | 4 | 4 written consents | 30 minutes | 2 | 230
213.369(d)—Inspection Records—Record of inspection of track | 2 | 15,000 records | 10 minutes | 2,500 | 190,000
Total | 746 | 1,404,410 responses | N/A | 233,899 | 17,776,417
¹ The dollar equivalent cost is derived from the Surface Transportation Board's Full Year Wage A&B data series using the appropriate employee group hourly wage rate that includes a 75-percent overhead charge.
² Note: Each record of an inspection under §§ 213.4, 213.119, 213.233, 213.235, and 213.237 is covered under § 213.241.

Total Estimated Annual Responses: 1,404,410.

Total Estimated Annual Burden: 233,899 hours.

Total Estimated Annual Burden Hour Dollar Cost Equivalent: $17,776,417.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2020-07911 Filed 4-14-20; 8:45 am]

BILLING CODE 4910-06-P